OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Employee Services, 202-606-2246.

SUPPLEMENTARY INFORMATION: Appearing in the listing below are the individual authorities established under Schedules A, B, and C between December 1, 2009, and December 31, 2009. These notices are published monthly in the Federal Register at http://www.gpoaccess.gov/ fr/. A consolidated listing of all authorities as of June 30 is also published each year. The following Schedules are not codified in the Code of Federal Regulations. These are agency-specific exceptions.

Schedule A

No Schedule A authorities to report during December 2009.

Schedule B

No Schedule B authorities to report during December 2009.

Schedule C

The following Schedule C appointments were approved during December 2009.

Department of State

DSGS69986 Executive Director to the Assistant Secretary for International Organizational Affairs. Effective December 23, 2009.

Department of Defense

DDGS17267 Director for Joint Communications to the Assistant Secretary of Defense, Public Affairs. Effective December 1, 2009.

Department of the Army

DWGS60076 Special Assistant to the Assistant Secretary of the Army (Civil Works). Effective December 24, 2009.

Department of Justice

DJGS00155 Speechwriter to the Director, Office of Public Affairs. Effective December 17, 2009.

Department of Agriculture

DAGS00186 White House Liaison to the Secretary. Effective December 4, 2009.

DAGS00320 Special Assistant to the Deputy Chief of Staff. Effective December 16, 2009.

Department of Commerce

DCGS60512 Senior Advisor to the Under Secretary of Commerce for Industry and Security. Effective December 1, 2009.

DCGS00502 Director of Advance to the Director of Scheduling and Advance. Effective December 10, 2009.

DCGS60371 Policy Advisor to the Chief of Staff for the National Oceanic and Atmospheric Administration. Effective December 16, 2009.

DCGS00693 Policy Advisor to the Chief of Staff for the National Oceanic and Atmospheric Administration. Effective December 22, 2009.

Department of Labor

DLGS00024 Special Assistant to the Assistant Secretary for Disability Employment Policy. Effective December 1, 2009.

DLGS60076 Special Assistant to the Director, Office of Federal Contract Compliance Programs. Effective December 1, 2009.

DLGS60107 Regional Representative to the Assistant Secretary for Congressional and Intergovernmental Affairs. Effective December 3, 2009.

DLGS60142 Special Assistant to the Deputy Secretary of Labor. Effective December 24, 2009.

Department of Education

DBGS00572 Special Assistant to the Assistant Secretary for Planning, Evaluation, and Policy Development. Effective December 1, 2009.

DBGS00317 Confidential Assistant to the Chief of Staff. Effective December 4, 2009.

DBGS00318 Director for Special Initiatives to the Assistant Deputy Secretary for Innovation and Improvement. Effective December 4, 2009.

DBGS00319 Special Assistant to the Chief of Staff. Effective December 4, 2009.

DBGS00406 Confidential Assistant to the Assistant Secretary for Vocational and Adult Education. Effective December 4, 2009.

DBGS00218 Executive Director of the White House Initiative on Asian Americans and Pacific Islanders to the Under Secretary. Effective December 15, 2009.

DBGS00529 Special Assistant to the Director, Faith-Based and Community Initiatives Center. Effective December 17, 2009.

DBGS00498 Special Assistant to the Principal Deputy Assistant Secretary. Effective December 22, 2009.

Environmental Protection Agency

EPGS10002 Senior Speech Writer to the Associate Administrator for Public Affairs. Effective December 8, 2009.

Department of Energy

DEGS00780 Director, Office of Congressional Affairs to the Director of Congressional, Intergovernmental, and Public Affairs. Effective December 10, 2009.

DEGS00781 Legislative Affairs Specialist to the Assistant Secretary for Congressional and Intergovernmental Affairs. Effective December 24, 2009.

DEGS00783 Special Assistant to the Deputy Director, Scheduling and Advance. Effective December 24, 2009.

DEGS00785 Staff Assistant to the General Counsel. Effective December 31, 2009.

General Services Administration

GSGS01435 Special Assistant to the Regional Administrator. Effective December 11, 2009.

GSGS01434 Federal Interagency Councils Program Manager to the Associate Administrator for Governmentwide Policy. Effective December 17, 2009.

Department of Transportation

DTGS60301 Associate Director to the Deputy Assistant Secretary for Governmental Affairs. Effective December 18, 2009.

Authority: 5 U.S.C. 3301 and 3302; E.O. 10577, 3 CFR 1954-1958 Comp., p. 218.

U.S. Office of Personnel Management.
John Berry,
Director.

[FR Doc. 2010-1272 Filed 1-22-10; 8:45 am]

BILLING CODE 6325-39-P